DEPARTMENT OF THE INTERIOR

Fish and Wildlife Service

Notice of Availability of a Draft Supplement and Amendment to the Sonoran Pronghorn Recovery Plan—Recovery Criteria and Estimates of Time for Recovery Actions—for Review and Comment

AGENCY: Fish and Wildlife Service, Interior.

ACTION: Notice of document availability.

SUMMARY: The U.S. Fish and Wildlife Service announces the availability for public review of a Draft Supplement and Amendment to the 1998 Final Sonoran pronghorn (Antilocapra americana sonoriensis) Recovery Plan. The species is currently known to occur on federal lands in Maricopa, Pima, and Yuma counties in southwestern Arizona. The Service solicits review and comment from the public on this Draft Supplement and Amendment.

DATES: Comments on the Draft Supplement and Amendment to the 1998 Final Sonoran Pronghorn Recovery Plan must be received on or before November 26, 2001 to receive consideration by the Service.

ADDRESSES: Persons wishing to review the Draft Supplement and Amendment to the 1998 Final Sonoran Pronghorn Recovery Plan may obtain a copy by accessing the Service's Arizona Ecological Service Field Office internet web page at Arizonaes.fws.gov or contacting John Morgart, Cabeza Prieta National Wildlife Refuge, U.S. Fish and Wildlife Service, 1611 North Second Avenue, Ajo, Arizona, 85321 (520/387-4989 Direct; 520/387-6483 Refuge Office; 520/387-5359 Fax; john_morgart@fws.gov e-mail). Written comments and materials regarding the supplement and amendment to the plan should be addressed to the Refuge Manager, Don Tiller, at this same address. Comments and materials received are available on request for public inspection, by appointment, during normal business hours at the above address.

FOR FURTHER INFORMATION CONTACT: John Morgart (see Addresses).

SUPPLEMENTARY INFORMATION:

Background

Restoring an endangered or threatened animal or plant species to the point where it is again a secure, self-sustaining member of its ecosystem is a primary goal of the Service's endangered species program. To help guide the recovery effort, the Service prepares recovery plans for most of the listed species native to the United States. Recovery plans describe actions considered necessary for conservation of species, establish criteria for the recovery levels for downlisting or delisting them, and estimate time and cost for implementing the recovery measures needed.

In a recent court decision (Civil Action No. 99-927 [ESH]), the judge ruled that the 1998 Final Sonoran Pronghorn Recovery Plan “* * * fails to establish (1) objective measurable criteria which, when met, would result in a determination that the pronghorn may be removed from the list of endangered species or, if such criteria are not practicable, an explanation of that conclusion and (2) estimates of the time required to carry out those measures needed to achieve the plan's goal and to achieve intermediate steps toward that goal where practicable, or, if such estimates are not practicable, an explanation of that conclusion.” The Court has ordered the Service to reconsider these portions of the 1998 Final Sonoran Pronghorn Recovery Plan. Deadline for completion of this task is November 30, 2001.

The Endangered Species Act of 1973 (Act), as amended (16 U.S.C. 1531 et seq.), requires the development of recovery plans for listed species unless such a plan would not promote the conservation of a particular species. Section 4(f) of the Act, as amended in 1988, requires that public notice and an opportunity for public review and comment be provided during recovery plan development. Public review and comment is also sought for this supplement and amendment to an existing recovery plan. The Service will consider all information presented during a public comment period prior to approval of the supplement and amendment to the 1998 Final Sonoran Pronghorn Recovery Plan. The Service and other Federal agencies will also take these comments into account in the course of implementing recovery activities.

The Draft Supplement and Amendment to the 1998 Final Sonoran Pronghorn Recovery Plan updates selected biological sections of the Recovery Plan, addresses the five listing factors mandated by Section 4(a)(1) of the Endangered Species Act of 1973, reassesses recovery criteria presented in the Final Recovery Plan, and where practicable, provides estimates of time necessary to carry out measures needed to effect recovery of Sonoran pronghorn as articulated in the Final Recovery Plan. The Draft Supplement and Amendment to the 1998 Final Recovery Plan was developed by the Service in coordination with an appointed Recovery Team that includes a group of scientists and agency biologists with expertise in the ecology of the Sonoran pronghorn. The Draft Supplement and Amendment to the Recovery Plan has undergone peer review by scientists, conservation biologists, range experts, and others experienced in reviewing recovery plans. This Draft Supplement and Amendment to the Recovery Plan incorporates their comments where applicable.

Public Comments Solicited

We solicit written comments on the Draft Supplement and Amendment to the 1998 Final Sonoran Pronghorn Recovery Plan. All comments received by the date specified above will be considered prior to approval of the plan.

Authority

The authority for this action is Section 4(f) of the Endangered Species Act, 16 U.S.C. 1533(f).

Dated: September 13, 2001.
Geoffrey L. Haskett,
Acting Regional Director.

[FR Doc. 01-23825 Filed 9-24-01; 8:45 am]

BILLING CODE 4310-55-P